ENVIRONMENTAL PROTECTION AGENCY

[FRL-7576-4]

Clean Water Act Class II: Proposed Administrative Penalty Assessment and Opportunity To Comment Regarding the Shapell Monteverde Partnership Plum Canyon Development Site, Proceeding Under Clean Water Act Section 309(g)(1), (2)(B) and 40 CFR 22.13(b)

AGENCY: Environmental Protection Agency (EPA).

ACTION: Notice.

SUMMARY: EPA is providing notice of a proposed administrative penalty assessment for alleged violations of the Clean Water Act (the “Act”). EPA is also providing notice of opportunity to comment on the proposed assessment.

EPA is authorized under Section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated Sections 301(a) or Section 308(a) of the Act, 33 U.S.C. 1311(a), 1318(a), including any person who has violated any permit condition or limitation, may be assessed a penalty in a “Class II” administrative penalty proceeding.

Class II proceedings under section 309(g) are conducted in accordance with the “Consolidated Rules of Practice Governing the Administrative Assessment of Civil Penalties, Issuance of Compliance or Corrective Action Orders, and the Revocation, Termination or Suspension of Permits” (“Part 22”), 40 CFR part 22. The procedures through which the public may submit written comment on a proposed Class II order or participate in a Class II proceeding, and the procedures by which a respondent may request a hearing, are set forth in part 22. The deadline for submitting public comment on a proposed Class II order is forty (40) days after publication of this notice.

On September 30, 2003, EPA filed with Danielle Carr, Regional Hearing Clerk, U.S. EPA, Region IX, 75 Hawthorne Street, San Francisco, California 94105, (415) 744-1391, the following Administrative Complaint: In the Matter of Shapell Monteverde Partnership, Plum Canyon Development Site, Docket No. CWA-9-2003-0005. For the alleged violations set forth in the Administrative Complaint, EPA proposes to assess penalties of up to One Hundred Thirty-seven Thousand and Five Hundred Dollars ($137,500) for violations of NPDES Permit No. CAS000002 and Sections 301(a) and Section 308 of the Act, 33 U.S.C. 1311(a), 1318(a) at the Plum Canyon Development Site in Los Angeles County, California.

FOR FURTHER INFORMATION CONTACT: Persons wishing to receive a copy of EPA's Consolidated Rules, review the Complaint or other documents filed in this proceeding, comment upon the proposed assessment, or otherwise participate in the proceeding should contact Danielle Carr, Regional Hearing Clerk, U.S. EPA, Region IX, 75 Hawthorne Street, San Francisco, California 94105, (415) 744-1391. The administrative record for this proceeding is located in the EPA Regional Office identified above, and the file will be open for public inspection during normal business hours. All information submitted by the Respondent is available as part of the administrative record, subject to provisions of law restricting public disclosure of confidential information. In order to provide opportunity for public comment, EPA will issue no final order assessing a penalty in these proceedings prior to forty (40) days after the date of publication of this notice.

Dated: September 30, 2003.
Alexis Strauss,
Director, Water Division.

[FR Doc. 03-26545 Filed 10-20-03; 8:45 am]

BILLING CODE 6560-50-M